DEPARTMENT OF ENERGY

Federal Energy Regulatory Commission

[Docket No. PR06-10-000]

Ohio Valley Hub, LLC; Notice of Petition for Approval of Rates

March 7, 2006.

Take notice that on January 31, 2006, Ohio Valley Hub, LLC (Ohio Valley) filed a cost and throughput study pursuant to a Commission order issued in Docket Nos. PR02-15-000 and CP02-161-000 (Ohio Valley Hub, LLC, 100 FERC ¶ 61,238 (2002)).

Ohio Valley states that it requests no change to its existing rates and charges or to the previously approved terms and conditions of service.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 17, 2006.

Magalie R. Salas,
Secretary.

[FR Doc. E6-4974 Filed 4-5-06; 8:45 am]

BILLING CODE 6717-01-P